DEPARTMENT OF HEALTH AND HUMAN SERVICES

National Institutes of Health

Lupus Today: Research Into Action Conference; Notice

The National Institutes of Health (NIH) will conduct a conference concerning systemic lupus erythematosus (SLE) research, entitled “Lupus Today: Research Into Action,” on September 5-6, 2003, at the Marriott Wardman Park Hotel, 2660 Woodley Road, NW, Washington, DC 20008. The conference will focus on the current status and future directions for SLE research. It will highlight key research accomplishments and what these accomplishments may represent for the current and future management of lupus. The conference is sponsored by the Office of Research on Women's Health at the Department of Health and Human Services's (DHHS) NIH, the Office on Women's Health at DHHS, and the National Institute of Arthritis and Musculoskeletal and Skin Diseases at the NIH. Eleven DHHS components and eight voluntary organizations are co-sponsoring the conference.

National leaders in lupus research have been invited to discuss the latest scientific discoveries that are opening up new avenues of diagnosis and treatment. Additionally, the agenda will include a panel discussion on patient participation in lupus studies and how patients and patient advocacy organizations view lupus research today. Another panel will focus on future lupus clinical trial opportunities and barriers from both the private and public health perspectives. The conference organizers hope to inform, energize, and share the excitement about the future of lupus research with patients and their families, physicians, health care workers, scientists, and organizations involved in lupus research and outreach.

Individuals interested in registering for the conference and/or learning more about it should visit the conference Web site at http://www4.od.nih.gov/orwh/lupusregistration.pdf >. The Web site provides an updated agenda.

Dated: August 11, 2003.
Vivian W. Pinn,
Associate Director for Research on Women's Health, National Institutes of Health.

[FR Doc. 03-20959 Filed 8-15-03; 8:45 am]

BILLING CODE 4140-01-P